DEPARTMENT OF TRANSPORTATION

Surface Transportation Board

[Docket No. FD 35834]

Dakota, Minnesota & Eastern Railroad Corporation—Trackage Rights Exemption—Soo Line Railroad Company

Soo Line Railroad Company (SOO), pursuant to a written trackage rights agreement, has agreed to grant overhead trackage rights to Dakota, Minnesota & Eastern Railroad Corporation d/b/a Canadian Pacific (DM&E) between mile post 159.0+/− on DM&E's Marquette Subdivision at or in the vicinity of Bluff, MN, over SOO's Tomah Subdivision and Watertown Subdivision to the connection SOO's and M&P Subdivision and over the MP& Subdivision to mile post 7.0 at or in the vicinity of Columbia, WI, a distance of approximately 119.0+/− miles.¹

¹ A parallel trackage rights agreement in which SOO would acquire trackage rights over DM&E's Marquette Subdivision is subject of the Verified Notice of Exemption being filed concurrently in Docket No. FD 35833.

The transaction may be consummated on or after July 10, 2014, the effective date of the exemption (30 days after the verified notice of exemption was filed).

According to DM&E, the purpose of the transaction is to promote the more efficient and economical movement of freight by allowing DM&E continued handling of traffic between DM&E's Marquette Subdivision and SOO's Tomah, Watertown, and M&P Subdivisions.

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed by July 3, 2014 (at least 7 days before the exemption becomes effective).

An original and 10 copies of all pleadings, referring to Docket No. FD 35834, must be filed with the Surface Transportation Board, 395 E Street SW., Washington, DC 20423-0001. In addition, a copy of each pleading must be served on Terence M. Hynes, Sidley Austin LLP, 1501 K Street NW., Washington, DC 20005.

Board decisions and notices are available on our Web site at WWW.STB.DOT.GOV.

Decided: June 23, 2014.
By the Board, Rachel D. Campbell, Director, Office of Proceedings.
Jeffrey Herzig,
Clearance Clerk.

[FR Doc. 2014-14981 Filed 6-25-14; 8:45 am]

BILLING CODE 4915-01-P